DEPARTMENT OF COMMERCE

National Oceanic and Atmospheric Administration

RIN 0648-XM50

Fisheries of the Caribbean, Gulf of Mexico, and South Atlantic; Snapper-Grouper Fishery off the Southern Atlantic States; Comprehensive Annual Catch Limit Amendment

AGENCY: National Marine Fisheries Service (NMFS), National Oceanic and Atmospheric Administration (NOAA), Commerce.

ACTION: Notice of intent (NOI) to prepare a draft environmental impact statement (DEIS); notice of scoping meetings; request for comments.

SUMMARY: The South Atlantic Fishery Management Council (Council) intends to prepare a DEIS to assess the impacts on the natural and human environment of the management measures proposed in its draft Comprehensive Annual Catch Limit Amendment (Comprehensive ACL Amendment) for the South Atlantic Region.

DATES: Written comments on the scope of the issues to be addressed in the DEIS will be accepted until February 27, 2009, at 5 p.m.

ADDRESSES: Comments may be sent by any of the following methods, mail: Kate Michie, NMFS, Southeast Regional Office, 263 13th Avenue South, St. Petersburg, FL 33701; phone: 727-824-5305; fax: 727-824-5308; e-mail: 0648-XM50@noaa.gov. Scoping documents are available from the Council's Web site at www.safmc.net.

FOR FURTHER INFORMATION CONTACT: Kim Iverson, Public Information Officer, South Atlantic Fisheries Management Council, 4055 Faber Place Drive, Suite 201, North Charleston, SC 29405; phone: 843-571-4366, toll free 1-866-SAFMC-10; fax: 843-769-4520; e-mail: kim.iverson@safmc.net.

SUPPLEMENTARY INFORMATION: Revisions to the Magnuson-Stevens Fishery Conservation and Management Act (Magnuson-Stevens Act) in 2007 require that by 2010, fishery management plans (FMPs), for fisheries determined by the Secretary of Commerce to be subject to overfishing, must establish a mechanism for specifying annual catch limits (ACLs) at a level that prevents overfishing and does not exceed the recommendations of the Council's Scientific and Statistical Committee or other established peer review processes. These FMPs are also required to establish, by 2010, accountability measures for fisheries subject to overfishing. ACLs and accountability measures for species undergoing overfishing in the FMP for the Snapper-Grouper Fishery of the South Atlantic Region are being addressed in Amendment 17 to that FMP.

The Magnuson-Stevens Act also requires the Council to establish, by 2011, ACLs and accountability measures for all other fisheries, except fisheries for species with annual life cycles. ACL specifications intended to fulfill this 2011 requirement would be included in the subject Comprehensive ACL Amendment.

In addition to ACLs and accountability measures, the Magnuson-Stevens Act requires that the Council's Scientific and Statistical Committee specify overfishing levels and acceptable biological catch (ABC) levels for all species undergoing overfishing. The Comprehensive ACL Amendment may specify an ABC control rule that would describe how the ABC is to be calculated.

The Council is also considering an action to remove some species from South Atlantic fishery management units (FMU)for respective FMPs, particularly those species that have a low occurrence in federal waters. The purpose of this action would be to ensure that fishery managers focus their attention and resources on species that are in need of conservation and management. Additionally, the Council is considering designating some species as Ecosystem Component species that are not part of a fishery but are in an FMP. Species may be included as Ecosystem Components in FMPs for data collection purposes; for ecosystem considerations related to optimum yield; and as considerations in the development of conservation and management measures for the associated fishery.

The amendment may also limit total mortality of federally managed species in the South Atlantic to the annual catch targets (ACTs). To achieve this goal, the amendment may include measures such as commercial quotas, trip limits, vessel limits, size limits, bag limits, closed areas, closed seasons, and permit endorsements. Additionally, the Comprehensive ACL Amendment may address several issues concerning the spiny lobster fishery such as, trap impacts on staghorn and elkhorn corals, tailing permits, and the Federal 50-short rule that allows retention of undersized spiny lobster to be used as live attractants.

This NOI is intended to inform the public of the preparation of a DEIS in support of the Comprehensive ACL Amendment. The DEIS may include: ACLs; ACTs; ecosystem component species; removing some species from South Atlantic FMUs; ABC control rule; and accountability measures; allocations among the commercial, recreational, and for-hire sectors for species not undergoing overfishing; limit total mortality for federally managed species to the ACTs; and address spiny lobster fishery issues. Following publication of this NOI, the Council will conduct public scoping meetings to determine the range of issues to be addressed in the DEIS and the associated Comprehensive ACL Amendment.

Following consideration of public scoping comments, the Council plans to begin preparation of the draft Comprehensive ACL Amendment/DEIS. The Council and its Scientific and Statistical Committee will review the draft Comprehensive ACL Amendment/DEIS in 2009. If the Council approves the document, public review may take place in late 2009. A comment period on the DEIS is planned, which will include public hearings to receive comments. A Federal Register notice will announce the availability of the DEIS associated with this amendment, as well as a 45-day public comment period, pursuant to regulations issued by the Council on Environmental Quality for implementing the National Environmental Policy Act and to NOAA's Administrative Order 216-6. The Council will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

Scoping Meetings, Times, and Locations

All meetings will begin at 3 p.m. In addition to the Comprehensive ACL Amendment, the Council intends to scope additional amendments at this series of meetings, for which separate notices have been prepared. The meetings will be physically accessible to people with disabilities. Requests for information packets or for sign language interpretation or other auxiliary aids should be directed to the Council (see FOR FURTHER INFORMATION CONTACT).

Monday, January 26, 2009—Hilton Garden Inn, 5265 International Blvd., North Charleston, SC 29418; phone: 843-308-9330.

Tuesday, January 27, 2009—Bridge Pointe Hotel, 101 Howell Rd., New Bern, NC 28582; phone: 252-636-3637.

Tuesday, February 3, 2009—Key Largo Grande, 97000 Overseas Hwy., Key Largo, FL 33037; phone: 305-852-5553.

Wednesday, February 4, 2009—Doubletree Hotel, 2080 N. Atlantic Ave., Cocoa Beach, FL 32931; phone: 321-783-9222.

Thursday, February 5, 2009—Mighty Eighth Air Force Museum, 175 Bourne Ave., Pooler, GA 31322; phone: 912-748-8888.

Authority: 16 U.S.C. 1801 et seq.

Dated: January 22, 2009.
Alan D. Risenhoover
Director, Office of Sustainable Fisheries, National Marine Fisheries Service.

[FR Doc. E9-1728 Filed 1-27-09; 8:45 am]

BILLING CODE 3510-22-S